DEPARTMENT OF COMMERCE

International Trade Administration

(A-570-827)

Certain Cased Pencils from the People's Republic of China: Notice of Partial Rescission of Antidumping Duty Administrative Review

AGENCY: Import Administration, International Trade Administration, Department of Commerce.

EFFECTIVE DATE: August 16, 2006.

FOR FURTHER INFORMATION CONTACT: Brian Smith or Gemal Brangman, AD/CVD Operations, Import Administration, International Trade Administration, U.S. Department of Commerce, 14th Street and Constitution Avenue, N.W., Washington, D.C. 20230; telephone: (202) 482-1766 or (202) 482-3773, respectively.

SUPPLEMENTARY INFORMATION:

Background

On December 1, 2005, the Department published in the Federal Register a notice of “Opportunity to Request Administrative Review” of the antidumping duty order on certain cased pencils from the People's Republic of China (“PRC”) covering the period December 1, 2004, through November 30, 2005. See Antidumping or Countervailing Duty Order, Finding, or Suspended Investigation; Opportunity to Request Administrative Review, 70 FR 72109 (December 1, 2005). On December 30, 2005, the petitioners¹ requested an administrative review of the antidumping duty order for Tianjin Custom Wood Processing Co., Ltd. (“TCW”).² On January 3, 2006, Orient International Holding Shanghai Foreign Trade Corp. (“SFTC”) requested an administrative review of its sales. On February 1, 2006, the Department published a notice of initiation of an administrative review of the antidumping duty order on certain cased pencils from the PRC with respect to these companies. See Initiation of Antidumping and Countervailing Duty Administrative Reviews, 71 FR 5241 (February 1, 2006) (“Initiation Notice”).

¹ The petitioners are Sanford L.P., Musgrave Pencil Company, RoseMoon Inc., and General Pencil Company.

² The petitioners also requested a review for China First Pencil Company, Ltd., Shanghai Three Star Stationary Industry Corp, and its affiliates Shanghai First Writing Instrument Co., Ltd., Shanghai Great Wall Pencil Co., Ltd., and China First Pencil Fang Zheng Co.

On February 14, 2006, SFTC withdrew its request for review.

In response to the Department's February 8, 2006, quantity and value questionnaire, TCW stated on February 22, 2006, that it had no exports, sales or entries of subject merchandise to the United States during the POR.

On July 24, 2006, the Department placed on the record a list of manufacturers/exporters of the subject merchandise for which the Department initiated administrative reviews, and for which U.S. Customs and Border Protection (“CBP”) suspended liquidation of subject entries during the period of review. See the July 24, 2006, memorandum from Brian Smith to the file entitled, “2004-2005 Administrative Review of Certain Cased Pencils from the People's Republic of China: CBP List of Exporters” (“July 24, 2006, Memorandum”).

On July 25, 2006, the Department issued a memorandum which stated that the CBP data examined by the Department (and referenced in the July 24, 2006, Memorandum) shows that TCW had no shipments of subject merchandise during the POR and indicated that the Department intended to rescind the administrative review with respect to TCW. See the July 25, 2006, memorandum from Brian Smith to the file entitled, “Intent to Rescind in Part the Antidumping Duty Administrative Review on Certain Cased Pencils from the People's Republic of China.” The Department also provided parties in this review until August 1, 2006, to submit comments on the July 24, 2006, Memorandum.

On July 31, 2006, the petitioner stated that it did not oppose the Department's intention of rescinding this review with respect to TCW.

Partial Rescission of Review

Section 351.213(d)(1) of the Department's regulations stipulates that the Secretary will rescind an administrative review, in whole or in part, if a party that requested a review withdraws the request within 90 days of the date of publication of notice of initiation of the requested review, unless the Secretary decides that it is reasonable to extend this time limit. In this case, SFTC withdrew its request for review before the 90-day deadline. Because SFTC was the only party to request the administrative review of itself, we are rescinding, in part, this review of the antidumping duty order on certain cased pencils from the PRC with respect to SFTC.

Section 351.213(d)(3) of the Department's regulations stipulates that the Secretary will rescind an administrative review, in whole or in part, with respect to a particular exporter or producer, if the Secretary concludes that, during the period covered by the review, there were no entries, exports, or sales of the subject merchandise. Therefore, we are also rescinding this review with respect to TCW because the Department reviewed CBP data which indicated that TCW did not export subject merchandise to the United States during the POR.

This review will continue with respect to the other companies listed in the Initiation Notice.

Assessment

The Department will instruct CBP to assess antidumping duties on all appropriate entries. Antidumping duties for the rescinded companies, where applicable, shall be assessed at a rate equal to the cash deposit of estimated antidumping duties required at the time of entry, or withdrawal from warehouse, for consumption, in accordance with 19 CFR 351.212(c)(1)(i). The Department will issue appropriate assessment instructions directly to CBP within 15 days of publication of this notice.

This notice is published in accordance with sections 751 and 777(i)(1) of the Tariff Act of 1930, as amended, and 19 CFR 351.213(d)(4).

Dated: August 10, 2006.
Stephen J. Claeys,
Deputy Assistant Secretary for Import Administration.

[FR Doc. E6-13469 Filed 8-15-06; 8:45 am]

BILLING CODE 3510-DS-S